DEPARTMENT OF DEFENSE

Department of the Air Force

Notice of Intent To Grant an Exclusive Patent License

AGENCY: Department of the Air Force, DOD.

ACTION: Notice.

SUMMARY: Pursuant to the provisions of Part 404 of Title 37, code of Federal Regulations, which implements Public Law 96-517, as amended, the Department of the Air Force announces its intention to grant Spectral Sciences, Inc., Incorporated in the State of Massachusetts, having a place of business at 4 Fourth Avenue, Burlington, Massachusetts 01803-3304, an exclusive license in any right, title and interest the Air Force has in:

U.S. Patent No. 5,884,226, issued 16 March 1999, titled “System and method for modeling moderate resolution atmospheric propagation,” by Gail P. Anderson et al., that of U.S. Patent Application Serial No. 09/838801, filed on 20 April 2001, titled “Band model method for modeling atmospheric propagation at arbitrarily fine spectral resolution,” by Alexander Berk et al., and that of U.S. Patent Application Serial No. 11/398696, filed on 5 April 2006, titled “Reformulated atmospheric band model method for modeling atmospheric propagation at arbitrarily fine spectral resolution and expanded capabilities,” by Gail P. Anderson et al.

DATES: A license for this patent will be granted unless a written objection is received within fifteen (15) days from the date of publication of this Notice.

FOR FURTHER INFORMATION: Written objection should be sent to: James M. Skorich, Esq., 2251 Maxwell Ave., SE, 377th ABW/JAN Kirtland AFB, NM 87117-5773. Telephone: (505) 846-1542.

Bao-anh Trinh,
Air Force Federal Register Liaison Officer.

[FR Doc. E8-20340 Filed 9-2-08; 8:45 am]

BILLING CODE 5001-05-P